DEPARTMENT OF ENERGY

Federal Energy Regulatory Commission

Notice of Technical Conference

January 9, 2002.

In the matter of: Docket Nos. RM01-12-000, RT01-2-001, RT01-10-000, RT01-15-000, RT01-34-000, RT01-35-000, RT01-67-000, RT01-74-000, RT01-75-000, RT01-77-000, RT01-85-000, RT01-86-000, RT01-87-000, RT01-88-000, RT01-94-000, RT01-95-000, RT01-98-000, RT01-99-000, RT01-100-000, RT02-1-000, EL02-9-000; Electricity Market Design and Structure, PJM Interconnection, L.L.C., Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, Public Service Electric & Gas Company, UGI Utilities Inc., Allegheny Power, Avista Corporation, Montana Power Company, Nevada Power Company, Portland General Electric Company, Puget Sound Energy, Inc., Sierra Pacific Power Company, Southwest Power Pool, Inc., Avista Corporation, Bonneville Power Administration, Idaho Power Company, Montana Power Company, Nevada Power Company, PacifiCorp, Portland General Electric Company, Puget Sound Energy, Inc., Sierra Pacific Power Company, GridFlorida LLC, Florida Power & Light Company, Florida Power Corporation, Tampa Electric Company, Carolina Power & Light Company, Duke Energy Corporation, South Carolina Electric & Gas Company, GridSouth Transco, LLC, Entergy Services, Inc., Southern Company Services, Inc., California Independent System Operator Corporation, Bangor Hydro-Electric Company, Central Maine Power Company, National Grid USA, Northeast Utilities Service Company, The United Illuminating Company, Vermont Electric Power Company, ISO New England Inc., Midwest Independent System Operator, Alliance Companies, NSTAR Services Company, New York Independent System Operator, Inc., Central Hudson Gas & Electric Corporation, Consolidated Edison Company of New York, Inc. Niagara Mohawk Power Corporation, New York State Electric & Gas Corporation, Orange & Rockland Utilities, Inc., Rochester Gas & Electric Corporation, PJM Interconnection, L.L.C., Regional Transmission Organizations, Regional Transmission Organizations, Arizona Public Service Company, El Paso Electric Company, Public Service Company of New Mexico, Tucson Electric Power Company, WestConnect RTO, LLC.

Take notice that a technical conference will be held on January 22-23, 2002, from approximately 9:30 a.m. to 4:30 p.m., in a room to be designated at the offices of the Federal Energy Regulatory Commission, 888 First Street, NE., Washington, DC. The goals of the conference will be to gain a mutual understanding of similarities and differences between various market designs and to allow participants to provide further detail on market operations. Members of the Commission will attend the conference and participate in the discussions. All interested persons may attend.

The Commission is inviting selected panelists on these topics to participate in these workshops; it is not at this time entertaining requests to make presentations. There will be ample opportunity for non-panelists to submit comments in the above dockets. Additional details about the workshops will be provided in a subsequent notice, and will be posted on the Commission's web site under RTO Activities. For additional information about the conference, please contact Saida Shaalan at (202) 208-0278.

C.B. Spencer,
Acting Secretary.

[FR Doc. 02-1075 Filed 1-15-02; 8:45 am]

BILLING CODE 6717-01-P